DEPARTMENT OF THE INTERIOR

Bureau of Land Management

[NV-055-5853-EU]

Correction to Notice of Realty Action: Direct Sale of Public Lands in Clark County, NV, N-79693

AGENCY: Bureau of Land Management, USDI.

ACTION: Correction Notice.

SUMMARY: This notice amends the Notice of Realty Action for Direct Sale of Public Lands in Clark County, Nevada, published in 70 FR 77184-77186. Under the section entitled SUPPLEMENTARY INFORMATION, the following correction is made. The Land Proposed for Sale is changed from:

T. 23 S., R. 61 E.,

Sec. 9, S½SE¼SWNW ¼ to

T. 23 S., R. 61 E.,

Sec. 9, S½NE¼SW¼NW¼.

All other Terms and Conditions of the sale remain unchanged.

Dated: January 23, 2006.
Juan Palma,
Field Manager.

[FR Doc. 06-2392 Filed 3-10-06; 8:45 am]

BILLING CODE 4310-HC-M